DEPARTMENT OF HEALTH AND HUMAN SERVICES

Administration for Community Living

Agency Information Collection Activities; Proposed Collection; Comment Request; Title VI Program Performance Report (OMB Control Number 0985-0007)

AGENCY: Administration for Community Living, HHS.

ACTION: Notice.

SUMMARY: The Administration for Community Living (ACL) is announcing an opportunity for the public to comment on the proposed collection of information listed above. Under the Paperwork Reduction Act of 1995, Federal agencies are required to publish a notice in the Federal Register concerning each proposed collection of information, including each proposed extension of an existing collection of information, and to allow 60 days for public comment in response to the notice. This notice solicits comments on a proposed extension without change information collection and solicits comments on the information collection requirements related to the Title VI Program Performance Report (OMB Control Number 0985-0007).

DATES: Comments on the collection of information must be submitted electronically by 11:59 p.m. (EST) or postmarked by December 26, 2023.

ADDRESSES: Submit electronic comments on the collection of information to: evaluation@acl.hhs.gov. Submit written comments on the collection of information to the Administration for Community Living, Washington, DC 20201, Attention: Public Comment OMB Control Number 0985-0007.

FOR FURTHER INFORMATION CONTACT: Amanda Cash@acl.hhs.gov at 202-795-7369.

SUPPLEMENTARY INFORMATION: Under the Paperwork Reduction Act of 1995 (PRA), Federal agencies must obtain approval from the Office of Management and Budget (OMB) for each collection of information they conduct or sponsor. A Collection of information includes agency requests or requirements that members of the public submit reports, keep records, or provide information to a third party. The PRA requires Federal agencies to provide a 60-day notice in the Federal Register concerning each proposed collection of information, including each proposed extension of an existing collection of information, before submitting the collection to OMB for approval. To comply with this requirement, ACL is publishing a notice of the proposed collection of information set forth in this document.

With respect to the following collection of information, ACL invites comments on our burden estimates or any other aspect of this collection of information, including:

(1) whether the proposed collection of information is necessary for the proper performance of ACL's functions, including whether the information will have practical utility;

(2) the accuracy of ACL's estimate of the burden of the proposed collection of information, including the validity of the methodology and assumptions used to determine burden estimates; (3) ways to enhance the quality, utility, and clarity of the information to be collected; and

(4) ways to minimize the burden of the collection of information on respondents, including using automated collection techniques when appropriate, and other forms of information technology.

A Program Performance Report on activities under Title VI of the Older Americans Act (OAA) is necessary for the Administration of Community Living (ACL) to monitor federal funds effectively and to be informed as to the progress of the programs. Grantees are required to submit an annual Program Performance Report to allow for efficient federal monitoring.

The OAA states that an applicant for a grant under Title VI Part A, Indian Program, shall “provide that the tribal organization will make such reports in such form and containing such information, as the Assistant Secretary may reasonably require, and comply with such requirements as the Assistant Secretary may impose to assure the correctness of such reports.” The OAA also states that an applicant for a grant under Title VI Part B, Native Hawaiian Program, shall “provide that the organization will make such reports in such form and containing such information as the Assistant Secretary may reasonably require, and comply with such requirements as the Assistant Secretary may impose to ensure the correctness of such reports.” An applicant for a grant under Title VI Part C, Native American Caregiver Support Program must also prepare and submit reports on the data and records, including information on the services funded by ACL. A combined Program Performance Report form is used for reporting by grantees under Parts A, B and C. The regulations at 45 CFR 92.40(b)(1) provide that “grantees shall submit annual performance reports unless the awarding agency requires quarterly or semiannual reports.”

The Program Performance Report provides a data base for ACL to: (1) monitor program achievement of performance objectives; (2) establish program policy and direction; and (3) prepare responses to Congress, the OMB, other federal departments, and public and private agencies as required by the OAA. If ACL did not collect the program data herein requested, it would not be able to monitor and manage total program progress as expected, nor develop program policy options directed toward assuring the most effective use of limited Title VI funds.

The proposed data collection tools may be found on the ACL website for review at https://www.acl.gov/about-acl/public-input.

Estimated Program Burden: The burden estimate is specific to the type of work done by the grantees that use this reporting format; ACL estimates it takes 20 hours to complete the Title VI PPR.

With 282 respondents taking 20 hours per performance report, annual burden hour totals 5,640 hours.

Respondent/data collection activity | Number of respondents | Responses per respondent | Hours per response | Annual burden hours
Title VI PPR | 282 | 1 | 20 | 5,640
Total |  |  |  | 5,640

Dated: October 20, 2023.
Alison Barkoff,
Senior official performing the duties of the Administrator and the Assistant Secretary for Aging.

[FR Doc. 2023-23562 Filed 10-24-23; 8:45 am]

BILLING CODE 4154-01-P